DEPARTMENT OF ENERGY

Federal Energy Regulatory Commission

[Docket No. CP02-76-000]

Eastern Shore Natural Gas Company; Notice of Application

February 5, 2002.

Take notice that on January 25, 2002, Eastern Shore Natural Gas Company, (Eastern Shore), 417 Bank Lane, Dover, Delaware 19904, filed in Docket No CP02-76-000 an application pursuant to Section 7(c) of the Natural Gas Act (NGA), for a certificate of public convenience and necessity to construct and operate certain pipeline facilities in Delaware, Pennsylvania and Maryland, in order to provide additional firm transportation capacity on Eastern Shore's system, all as more fully set forth in the application on file with the Commission and open to public inspection. Copies of this filing are on file with the Commission and are available for public inspection. This filing may also be viewed on the web at http://www.ferc.gov using the “RIMS” link, select “Docket#” and follow the instructions (call 202-208-2222 for assistance).

Specifically, Eastern Shore proposes to (1) construct and operate approximately 1.5 mile of 16-inch mainline looping in Pennsylvania and one mile of 16-inch mainline looping in Maryland and Delaware. Eastern Shore states that the facilities are required to provide additional firm transportation service of 4,500 dekatherms (dt) per day as requested by two of Eastern Shore's local distribution company customers, Conectiv Power Delivery (3,000 dt), and Delaware Division of Chesapeake Utilities Corporation (1,500 dt).

Eastern Shore asserts that it conducted an open season between May 1 and May 31, 2001, and asserts that the result was that the two customers have fully subscribed the capacity to be made available to satisfy increased market demand. It is estimated that the cost of the proposed facilities would be $2,653,618, to be financed from internally generated funds and short-term notes, with permanent financing to be arranged on completion of construction. Eastern Shore requests a preliminary determination that the total cost of the project be given rolled-in rate treatment, stating that the project satisfies the requirements of the Commission's policy statement issued in PL99-3-000. Eastern Shore requests that a certificate be issued by May 31, 2002, in order to complete construction and place the facilities in service by November 1, 2002.

Any questions regarding the application may be directed to Philip S. Barefoot, Vice President, Eastern Shore Natural Gas Company, 417 Bank Lane, Dover, Delaware 19904.

There are two ways to become involved in the Commission's review of this project. First, any person wishing to obtain legal status by becoming a party to the proceedings for this project should, on or before February 26, 2002, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments, protests and interventions may be filed electronically via the Internet in lieu of paper. See, 18 CFR 385.2001(a)(1)(iii) and the instructions on the Commission's web site under the “e-Filing” link.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Magalie R. Salas,
Secretary.

[FR Doc. 02-3205 Filed 2-8-02; 8:45 am]

BILLING CODE 6717-01-P